DEPARTMENT OF ENERGY

10 CFR Part 430

[EERE-2010-BT-STD-0011]

RIN 1904-AC22

Energy Conservation Program for Consumer Products: Energy Conservation Standards for Residential Furnace Fans; Correction

AGENCY: Office of Energy Efficiency and Renewable Energy, Department of Energy.

ACTION: Final rule; correction; correcting amendment.

SUMMARY: On July 3, 2014, the U.S. Department of Energy (“DOE”) published a final rule adopting new energy conservation standards for residential furnace fans (hereafter the “July 2014 final rule”). This correction addresses typographical errors that appear in both the preamble of the July 2014 final rule and regulatory text in the Code of Federal Regulations (“CFR”). In certain locations (primarily table headings), the units for fan energy rating (“FER”) were inadvertently listed as “Watts/cfm.” This document corrects the units designation to “Watts/1000 cfm.” Neither the error nor the corrections in this document affect the substance of the energy conservation standards rulemaking or any conclusions reached in support of the final rule.

DATES: Effective February 7, 2019.

FOR FURTHER INFORMATION CONTACT:

Mr. Antonio Bouza, U.S. Department of Energy, Office of Energy Efficiency and Renewable Energy, Building Technologies Office, EE-5B, 1000 Independence Avenue SW, Washington, DC 20585-0121. Telephone: (202) 586-4563. Email: Antonio.Bouza@ee.doe.gov.

Mr. Eric Stas, U.S. Department of Energy, Office of the General Counsel, GC-33, 1000 Independence Avenue SW, Washington, DC 20585-0121. Telephone: (202) 586-5827. Email: Eric.Stas@hq.doe.gov.

SUPPLEMENTARY INFORMATION:

I. Background

The test procedure established for furnace fans specifies that the applicable rating metric of FER must be expressed in terms of watts per 1000 cubic feet per minute (“Watts/1000 cfm”). 79 FR 500, 523 (Jan. 3, 2014); 10 CFR 430.23(cc). In the July 2014 final rule, DOE established energy conservation standards for furnace fans using the FER metric. 79 FR 38130 (July 3, 2014). Consistent with the test procedure, the certification requirements established in the July 2014 final rule require reporting of FER in terms of Watts/1000 cfm. 79 FR 38130, 38208 (July 3, 2014); 10 CFR 429.58(b)(2). Additionally, the preamble to the July 2014 final rule generally presents the units for the FER metric as Watts/1000 cfm. 79 FR 38130, 38138, 38201, 38202 (July 3, 2014). However, in a number of places in the July 2014 final rule preamble and regulatory text, the units for FER are improperly written as “Watts/cfm” instead of “Watts/1000 cfm.” This document identifies and corrects these typographical errors. DOE notes that the energy conservation standards and related equations adopted in the July 3, 2014 final rule are correct as published and do not require substantive revision.

II. Need for Correction

As published, the adopted energy conservation standards text may result in confusion due to incorrect unit reference. Because this final rule would simply correct errors in the text without making substantive changes in the energy conservation standards, the changes addressed in this document are technical in nature. Accordingly, DOE finds that there is good cause under 5 U.S.C. 553(b)(B) to not issue prior notice to solicit public comment on the changes contained in this document. Issuing a separate document to solicit public comment would be unnecessary and contrary to the public interest.

III. Procedural Issues and Regulatory Review

DOE has concluded that the determinations made pursuant to the various procedural requirements applicable to the July 3, 2014 final rule remain unchanged for this final rule technical correction. These determinations are set forth in the July 3, 2014 final rule. 79 FR 38130, 38203-38208.

Corrections

In the Federal Register of July 3, 2014, in FR Doc. 2014-15387, the following corrections are made:

1. On page 38131, in Table I.1—Energy Conservation Standards for Covered Residential Furnace Fans, correct the second column header to read: FER* (Watts/1000 cfm).

2. On page 38152, in the second column, in the first paragraph, replace all instances of “watts/cfm” with “Watts/1000 cfm.”

3. On page 38157, in the third column, in the first paragraph, replace “watts/cfm” with “Watts/1000 cfm.”

4. On page 38209, in Table 1—Energy Conservation Standards for Covered Residential Furnace Fans, correct the second column header to read: FER** (Watts/1000 cfm).

List of Subjects in 10 CFR Part 430

Administrative practice and procedure, Confidential business information, Energy conservation, Household appliances, Imports, Incorporation by reference, Intergovernmental relations, Small businesses.

Signed in Washington, DC, on January 28, 2019.
Steven Chalk,
Acting Deputy Assistant Secretary for Energy Efficiency, Energy Efficiency and Renewable Energy.

Correcting Amendment

For the reasons stated in the preamble, DOE amends part 430 of chapter II, subchapter D, of title 10 of the Code of Federal Regulations as set forth below:

PART 430—ENERGY CONSERVATION PROGRAM FOR CONSUMER PRODUCTS

1. The authority citation for part 430 continues to read as follows:

Authority: 42 U.S.C. 6291-6309; 28 U.S.C. 2461 note.

§ 430.32 [Amended]

2. Section 430.32(y) is amended in Table 1 by removing the column heading “FER** (Watts/cfm)” adding in its place the column heading “FER** (Watts/1000 cfm)”.

[FR Doc. 2019-01242 Filed 2-6-19; 8:45 am]

BILLING CODE 6450-01-P